ENVIRONMENTAL PROTECTION AGENCY

[FRL-8772-01-R9]

Public Water System Supervision Program Revision for the State of Hawaii

AGENCY: Environmental Protection Agency (EPA).

ACTION: Notice of tentative approval.

SUMMARY: Notice is hereby given that the State of Hawaii (State) revised its Public Water System Supervision (PWSS) Program under the federal Safe Drinking Water Act (SDWA) by adopting regulations to implement the federal Radionuclides Rule. The Environmental Protection Agency (EPA) has determined that the State's revisions are no less stringent than the corresponding Federal regulations and otherwise meet applicable SDWA primacy requirements. Therefore, EPA intends to approve the stated revisions as part of the State's PWSS Program.

DATES: A request for a public hearing must be received or postmarked before September 13, 2021.

ADDRESSES: All documents relating to this determination are available for inspection online at http://health.hawaii.gov/sdwb/public-notices/. In addition, documents relating to this determination are available between the hours of 8:30 a.m. and 4:00 p.m., Monday through Friday, except official State holidays, at the following address: Hawaii Department of Health, Safe Drinking Water Branch, 2385 Waimano Home Road, Uluakupu Building 4, Pearl City, Hawaii 96782.

FOR FURTHER INFORMATION CONTACT: Anna Yen, United States Environmental Protection Agency, Region 9, Drinking Water Section, via telephone number: (415) 972-3976 or email address: yen.anna@epa.gov.

SUPPLEMENTARY INFORMATION: Background. EPA approved the State's initial application for PWSS Program primary enforcement authority (“primacy”) on October 20, 1977 (42 FR 47244). Since initial approval, EPA has approved various revisions to Hawaii's PWSS Program. For the revisions covered by this action, the EPA revised the Radionuclides Rule on December 7, 2000 (66 FR 76708), which had been in effect since 1977. The revisions set new monitoring provisions for community water systems; retain the existing maximum contaminant levels (MCLs) for combined radium-226 and radium-228, gross alpha particle radioactivity, and beta particle and photon activity; and regulate uranium for the first time. EPA has determined that the Radionuclides Rule was adopted verbatim into the Hawaii Administrative Rules (HAR), Title 11, Chapter 20, in a manner that Hawaii's regulations are comparable to and no less stringent than federal requirements. EPA has also determined that the State's primacy revision application meets all of the regulatory requirements for approval, as set forth in 40 CFR 142.12, including a side-by-side comparison of the Federal requirements and the corresponding State authorities, additional materials to support special primacy requirements of 40 CFR 142.16, and a statement by the Hawaii Attorney General certifying that Hawaii's laws and regulations to carry out the program revisions were duly adopted and are enforceable. Therefore, EPA is tentatively approving the State's revisions as part of Hawaii's PWSS Program.

Public Process. Any interested party may request a public hearing on this determination. A request for a public hearing must be received or postmarked before September 13, 2021, and addressed to the Regional Administrator at the EPA Region 9, via the following email address: R9dw-program@epa.gov. Please note, “State Primacy Rule Determination” in the subject line of the email. The Regional Administrator may deny frivolous or insubstantial requests for a hearing. If a substantial request for a public hearing is made before September 13, 2021, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA Region 9 does not receive a timely and appropriate request for a hearing and the Regional Administrator does not elect to hold a hearing on her own motion, this determination shall become final and effective on September 13, 2021, and no further public notice will be issued.

Authority: Section 1413 of the Safe Drinking Water Act, as amended, 42 U.S.C. 300g-2 (1996), and 40 CFR part 142 of the National Primary Drinking Water Regulations.

Dated: August 5, 2021.
Deborah Jordan,
Acting Regional Administrator, EPA Region 9.

[FR Doc. 2021-17098 Filed 8-11-21; 8:45 am]

BILLING CODE 6560-50-P